DEPARTMENT OF HEALTH AND HUMAN SERVICES

Health Resources and Services Administration

Proposed Changes to the Graduate Psychology Education Program

AGENCY: Health Resources and Services Administration (HRSA), Department of Health and Human Services.

ACTION: Request for Public Comment on the Graduate Psychology Education Program.

SUMMARY: The Graduate Psychology Education (GPE) Program is authorized by section 756 of the Public Health Service Act and administered by HRSA. The program provides financial support to organizations and institutions that train doctoral-level psychologists. This notice seeks public comment to inform and guide policy and planning associated with the GPE Program.

DATES: Individuals and organizations interested in providing information must submit written comments no later than April 13, 2018. To receive consideration, comments must be received no later than 11:59 p.m. Eastern Time on that date.

ADDRESSES: Interested parties should submit their comments to Cynthia Harne, Public Health Analyst and Project Officer for the GPE Program, Division of Nursing and Public Health, Behavioral and Public Health Branch, Bureau of Health Workforce, HRSA, 5600 Fishers Lane, Room 11N-90C, Rockville, Maryland 20857; phone (301) 443-7661; fax (301) 443-0791; or email charne@hrsa.gov. Please include the title of this notice, “Request for Comment: GPE Program” in the subject line of the email. Response to this request is voluntary. Responders are free to address any or all of the questions listed below. This request is for information and planning purposes only and should not be construed as a solicitation or as an obligation on the part of the federal government. All submitted comments will be available to the public by request in their entirety.

FOR FURTHER INFORMATION CONTACT: Cynthia Harne, Public Health Analyst, Division of Nursing and Public Health, Behavioral and Public Health Branch, Bureau of Health Workforce, Health Resources and Services Administration, at the contact information listed above.

SUPPLEMENTARY INFORMATION: The GPE Program was established in 2002 to assist American Psychological Association (APA) accredited doctoral programs and internships in meeting the costs to plan, develop, operate, or maintain graduate psychology education programs to train health service psychologists to work with vulnerable populations. The purpose of the current program (Funding Opportunity Announcement HRSA-16-059) is to prepare doctoral-level psychologists to provide behavioral health care, including mental health and substance use disorder prevention and treatment services, in settings that provide integrated primary and behavioral health services to underserved and/or rural populations. The program is designed to foster an integrated and interprofessional approach to address access to behavioral health care for underserved and/or rural populations.

Given the value of feedback from stakeholders, HRSA is seeking comments from interested parties including current and former grant recipients, former applicants to the program, doctoral psychology schools and programs, and health care delivery sites that provide behavioral health experiential training to students. The purpose is to identify doctoral-level health service psychologist training needs, salient issues and challenges in the delivery of behavioral health services, including substance use, and to provide individual recommendations to maximize the reach, capacity and success of the GPE Program in addressing Opioid Use Disorder and other behavioral health concerns. This information may be used by HRSA will consider the input as it develops future technical assistance and funding opportunities, and strategic planning to meet the training demands of the behavioral health workforce.

Graduate Psychology Program in FY 2019—Proposal for Public Comment

HRSA seeks comments on how the GPE program (and the students it supports) can help address the opioid epidemic. In your comments, please address one or more of the following:

1. What do you see as the most prevalent behavioral health and public health trends or concerns that should be addressed in developing the psychologist workforce?

2. What do you see as the role for doctoral-level health psychologists in addressing the opioid epidemic?

3. What are the didactic and experiential training needs in preparing doctoral-level health psychologists to effectively address substance use disorder (SUD) including opioid use?

4. If your institution has received in the past, is currently receiving, or applied for but did not receive GPE funding, what features or requirements of the GPE Program were easy to incorporate and/or beneficial in the development and implementation of your program, and which ones posed challenges? Please provide specific examples. If your institution did not apply for GPE funding, what features or requirements of the GPE Program posed challenges to the development of your program or dissuaded your institution from applying to the program?

5. What health workforce training strategies within the experiential training sites could the GPE Program address to increase access to integrated behavioral health/primary care services in underserved and/or rural populations? Please provide a description of practice.

6. Type and site including geographic locations (e.g., large health system, private practices, group practices, Federally Qualified Health Center, etc.).

Dated: March 8, 2018.
George Sigounas,
Administrator.

[FR Doc. 2018-05064 Filed 3-13-18; 8:45 am]

BILLING CODE 4165-15-P